DEPARTMENT OF THE INTERIOR

Fish and Wildlife Service

[FWS-R9-IA-2011-N233; 96300-1671-0000-P5]

Endangered Species; Receipt of Applications for Permit

AGENCY: Fish and Wildlife Service, Interior.

ACTION: Notice of receipt of applications for permit.

SUMMARY: We, the U.S. Fish and Wildlife Service, invite the public to comment on the following applications to conduct certain activities with endangered species. With some exceptions, the Endangered Species Act (ESA) prohibit activities with listed species unless a Federal permit is issued that allows such activities. The ESA laws require that we invite public comment before issuing these permits.

DATES: We must receive comments or requests for documents on or before December 5, 2011.

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, section 10(a)(1)(A) of the Endangered Species Act of 1973, as amended (16 U.S.C. 1531 et seq.), require that we invite public comment before final action on these permit applications.

III. Permit Applications

A. Endangered Species

Applicant: Laguna Vista Ranch, San Antonio, TX; PRT-180804.

The applicant requests renewal of their captive-bred wildlife registration under 50 CFR 17.21(g) for barasingha (Rucervus duvaucelii) and Eld's deer (Rucervus eldii) to enhance their propagation or survival. This notification covers activities to be conducted by the applicant over a 5-year period.

Applicant: Honolulu Zoo, Honolulu, HI; PRT 699515.

The applicant requests renewal of their captive-bred wildlife registration under 50 CFR 17.21(g) for the following families and species to enhance their propagation or survival. This notification covers activities to be conducted by the applicant over a 5-year period.

Families: Callithricidae, Canidae, Cercopithecidae (includes Colobus), Felidae (does not include jaguar, margay or ocelot), Hominidae, Hylobatidae, Lemuridae, Rhinocerotidae, Gruidae, Psittacidae (does not include thick-billed parrot), Sturnidae (does not include Aplonis pelzelni), Pelomedusidae, Testudinidae.

Species:

Asian elephant (Elephas maximus).

Applicant: Newport Aquarium LLC, Newport, KY; PRT- 57930A.

The applicant requests a captive-bred wildlife registration under 50 CFR 17.21(g) for jackass penguin (Spheniscus demersus) and African dwarf crocodile (Osteolaemus tetraspis) to enhance their propagation or survival. This notification covers activities to be conducted by the applicant over a 5-year period.

Multiple Applicants

The following applicants each request a permit to import the sport-hunted trophy of one male bontebok (Damaliscus pygargus pygargus) culled from a captive herd maintained under the management program of the Republic of South Africa, for the purpose of enhancement of the survival of the species.

Applicant: James Hascup, Ringwood, NJ; PRT-56945A.

Applicant: Sherrie Hermann, Las Vegas, NV; PRT-57919A.

Brenda Tapia,
Program Analyst/Data Administrator, Branch of Permits, Division of Management Authority.

[FR Doc. 2011-28526 Filed 11-2-11; 8:45 am]

BILLING CODE 4310-55-P